FEDERAL COMMUNICATIONS COMMISSION

[DA 11-1930]

Mandatory Electronic Filing for Cable Special Relief Petitions and Cable Show Cause Petitions, Via the Electronic Comment Filing System

AGENCY: Federal Communications Commission

ACTION: Notice.

SUMMARY: This document announces the implementation of electronic filing of Cable Special Relief (CSR) Petitions and Cable Show Cause (CSC) Petitions using the FCC Electronic Comment Filing System (ECFS). A description of procedures for filing is also provided.

DATES: Effective December 1, 2011, voluntary electronic filing of CSR and CSC petitions will be permitted through January 3, 2012, when electronic filing will become mandatory.

FOR FURTHER INFORMATION CONTACT: For assistance using ECFS, contact ECFS help at (202) 418-0193 or ecfshelp@fcc.gov. For further information, contact Pam Pusey at (202) 418-1067 or Claudia Tillery of the Media Bureau at (202) 418-1056.

SUPPLEMENTARY INFORMATION: This is a summary of the CSR and CSC Electronic Filing Public Notice which was released November 22, 2011. The complete text of the CSR and CSC Electronic Filing Public Notice is available for public inspection and copying from 8 a.m. to 4:30 p.m. ET Monday through Thursday and from 8 a.m. to 11:30 a.m. ET on Friday in the FCC Reference Information Center, 445 12th Street SW., Room CY-A257, Washington, DC 20554. The CSR and CSC Electronic Filing Public Notice may also be purchased from the Commission's duplicating contractor, Best Copy and Printing, Inc. (BCPI), Portals II, 445 12th Street SW., Room CY-A257, Washington, DC 20554, telephone (202) 488-5300, facsimile (202) 488-5563, or Web site http://www.BCPIWEB.com using document number DA 11-1930 for the CSR and CSC Electronic Filing Public Notice. The CSR and CSC Electronic Filing Public Notice is also available on the Internet at the Commission's Web site: http://hraunfoss.fcc.gov/edocs_public/attachmatch/DA-11-1930A1.doc; http://hraunfoss.fcc.gov/edocs_public/attachmatch/DA-11-1930A1.pdf; or http://hraunfoss.fcc.gov/edocs_public/attachmatch/DA-11-1930A1.txt.

This change in filing procedures is made pursuant to § 1.49(f) of the Commission's rules, as recently amended in the Commission's Report and Order released on February 4, 2011. Amendment of Certain of the Commission's Part 1 Rules of Practice and Procedure and Part 0 Rules of Commission Organization, Report and Order, 26 FCC Rcd 1594 (2011). The Commission revised portions of its Part 1, Practice and Procedural rules and its Part 0, Organizational rules to increase the efficiency of Commission decision-making and modernize the agency's processes in the digital age. The Commission delegated authority to the Consumer and Governmental Affairs Bureau, in consultation with relevant bureau, authority to implement the various electronic filing provisions by Public Notice. This Public Notice implements electronic filing of Cable Special Relief (CSR) petitions and Cable Show Cause (CSC) petitions, which are filed in accordance with the provisions of 47 CFR. 76.7.

Federal Communications Commission.
William T. Lake,
Chief, Media Bureau.

[FR Doc. 2011-31989 Filed 12-12-11; 8:45 am]

BILLING CODE 6712-01-P